DEPARTMENT OF COMMERCE

Foreign-Trade Zones Board

[Docket 70-2008]

Foreign-Trade Zone 25—Port Everglades, FL; Application for Reorganization/Expansion

An application has been submitted to the Foreign-Trade Zones Board (the Board) by the Port Everglades Department of Broward County, Florida, grantee of FTZ 25, requesting authority to expand and reorganize its zone in Broward County, Florida, within the Port Everglades CBP port of entry. The application was submitted pursuant to the provisions of the Foreign-Trade Zones Act (19 U.S.C. 81a-81u), and the regulations of the Board (15 CFR part 400). It was formally filed on December 11, 2008.

FTZ 25 was approved by the Board on December 27, 1976 (Board Order 113, 42 FR 61; 1/3/77), and expanded on August 11, 1978 (Board Order 132, 43 FR 36989, 8/21/78); October 10, 1991 (Board Order 537, 56 FR 52510, 10/21/91); and, March 18, 2005 (Board Order 1382, 70 FR 15836, 3/29/05). The applicant is now requesting authority to reorganize and expand the zone, reinstate acreage previously deleted, and make permanent several temporary sites. The zone, as proposed, would consist of the following sites in Broward County, Florida:

Site 1: (142 acres total within Port Everglades)—82 acres at 3400; 50 acres at 3401; and 10 acres at 4401 McIntosh Road, Hollywood

Site 2: (14 acres total) at 2501/2525/2555/2600 Davie Road, Davie

Site 3: (69 acres total within the Miramar Commerce Park) 39 acres at 9786/9850/9900/10044 Premier Parkway; and 30 acres at 2700/2701 Executive Way and 10301/10431 N. Commerce Parkway, Miramar

Site 4: (18 acres) 2696 NW 31st Avenue, Lauderdale Lakes

Site 5: (37 acres) 2650 SW 145th Avenue, Miramar

Site 6: (26 acres) 3200 West Oakland Park Boulevard, Lauderdale Lakes

Site 7: (1 acre) 35 SW 12th Avenue, Dania Beach

Site 8: (9 acres) 2200-2300 SW 45th Street, Dania Beach

Site 9: (6 acres) 375 NW 9th Avenue, Dania Beach

Site 10: (13 acres) 3435-3699 NW 19th Street, Lauderdale Lakes

Site 11: (52 acres) 1141 South Andrews Avenue, Pompano Beach

No specific manufacturing requests are being made at this time. Such requests would be made to the Board on a case-by-case basis.

In accordance with the Board's regulations, Claudia Hausler of the FTZ Staff is designated examiner to investigate the application and report to the Board.

Public comment on the application is invited from interested parties. Submissions (original and 3 copies) shall be addressed to the Board's Executive Secretary at the address below. The closing period for their receipt is February 27, 2009. Rebuttal comments in response to material submitted during the foregoing period may be submitted during the subsequent 15-day period to March 16, 2009.

A copy of the application will be available for public inspection at each of the following locations:

U.S. Department of Commerce Export Assistance Center, 200 East Las Olas Boulevard, Suite 1600, Fort Lauderdale, Florida 33301.

Office of the Executive Secretary, Foreign-Trade Zones Board, U.S. Department of Commerce, Room 2111, 1401 Constitution Ave., NW., Washington, DC 20230.

For further information, contact Claudia Hausler at Claudia_Hausler@ita.doc.gov or (202) 482-1379.

Dated: December 12, 2008.
Andrew McGilvray,
Executive Secretary.

[FR Doc. E8-30850 Filed 12-24-08; 8:45 am]

BILLING CODE 3510-DS-P